FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Annual Daylight Overdraft Capital Report for U.S. Branches and Agencies of Foreign Banks (FR 2225; OMB No. 7100-0216).

On June 15, 1984, the Office of Management and Budget (OMB) delegated to the Board authority under the Paperwork Reduction Act (PRA) to approve of and assign OMB control numbers to collection of information requests and requirements conducted or sponsored by the Board. Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT:

Federal Reserve Board Clearance Officer—Nuha Elmaghrabi—Office of the Chief Data Officer, Board of Governors of the Federal Reserve System, Washington, DC, 20551 (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW., Washington, DC 20503 or by fax to (202) 395-6974.

Final approval under OMB delegated authority of the extension for three years, without revision, of the following report:

Report Title: Annual Daylight Overdraft Capital Report for U.S. Branches and Agencies of Foreign Banks.

Agency Form Number: FR 2225.

OMB Control Number: 7100-0216.

Frequency: Annually.

Respondents: Foreign banking organizations (FBO).

Estimated Number of Respondents: 50.

Estimated Average Hours per Response: 1.

Estimated annual burden hours: 50.

General description of report: This report was implemented in March 1986 as part of the procedures used to administer the Federal Reserve's Payment System Risk (PSR) policy. A key component of the PSR policy is a limit, or a net debit cap, on an institution's negative intraday balance in its Reserve Bank account. The Federal Reserve calculates an institution's net debit cap by applying the multiple associated with the net debit cap category to the institution's capital. For foreign banking organizations (FBOs), a percentage of the FBO's capital measure, known as the U.S. capital equivalency, is used to calculate the FBO's net debit cap.

FBOs that wish to establish a positive net debit cap and have a strength of support assessment (SOSA) 1 or SOSA 2 ranking or hold a financial holding company (FHC) designation are required to submit the FR 2225 to their Administrative Reserve Bank (ARB).1 2

¹ The Administrative Reserve Bank is responsible for the administration of Federal Reserve credit, reserves, and risk-management policies for a given institution or other legal entity.

² Most FBOs that are ranked SOSA 3 do not qualify for a positive net debit cap. In the event a Reserve Bank grants a net debit cap or extends intraday credit to a financially healthy SOSA 3-ranked FBO, the financially healthy SOSA 3-ranked FBOs will have their U.S. capital equivalency based on their “Net due to related depository institutions” as reported on the Report of Assets and Liabilities of U.S. Branches and Agencies of Foreign Banks (FFIEC 002), Schedule RAL, Item 5.a, Column A, for the most recent quarter.

Legal authorization and confidentiality: The Federal Reserve Board's Legal Division has determined that the FR 2225 is authorized by Sections 11(i), 16, and 19(f) of the Federal Reserve Act (12 U.S.C. 248(i), 248-1, and 464). An FBO is required to respond in order to obtain or retain a benefit, i.e., in order for the U.S. branch or agency of an FBO to establish and maintain a non-zero net debit cap. Respondents are not asked to submit any data that are not ordinarily disclosed to the public; accordingly, such items would not routinely be protected from disclosure under the Freedom of Information Act (FOIA). To the extent an institution submits data it believes are confidential and can establish the potential for substantial competitive harm, those responses would be protected from disclosure pursuant to exemption 4 of the FOIA (5 U.S.C. 552(b)(4)), under the standards set forth in National Parks & Conservation Ass'n v. Morton, 498 F.2d 765 (D.C. Cir. 1974). Such a determination would be made on a case-by-case basis in response to a specific request for disclosure of the information.

Current actions: On April 7, 2017, the Board published a notice in the Federal Register (82 FR 17005) requesting public comment for 60 days on the extension, without revision, of the Annual Daylight Overdraft Capital Report for U.S. Branches and Agencies of Foreign Banks. The comment period for this notice expired on June 6, 2017. The Board did not receive any comments.

Board of Governors of the Federal Reserve System, July 3, 2017.
Ann E. Misback
Secretary of the Board.

[FR Doc. 2017-14259 Filed 7-6-17; 8:45 am]

BILLING CODE 6210-01-P